DEPARTMENT OF AGRICULTURE

Forest Service

Coconino and Tonto National Forests, AZ; Fossil Creek Area Planning EIS

AGENCY: Forest Service, USDA.

ACTION: Notice of intent to prepare an Environmental Impact Statement (EIS).

SUMMARY: The Coconino and Tonto National Forests are developing an EIS to analyze the effects of proposed management changes within the Fossil Creek area. This EIS and planning process would result in the development and implementation of new management areas, standards, and guidelines within both forests' management plans.

The Fossil Creek planning area lies within the administrative boundaries of the Coconino and Tonto National Forests (NFs) in Coconino, Gila, and Yavapai Counties in central Arizona. On the Coconino NF, the planning area includes the Fossil Springs Wilderness, Fossil Creek Botanical area and portions of the Hackberry and Boulder Canyon Inventoried Roadless Areas. The Tonto NF portion contains the proposed Fossil Creek State Natural area and a segment of the Mazatzal Wilderness.

DATES: Comments concerning the scope of the analysis must be received by July 8, 2003. The Forest Service expects to complete the draft environmental impact statement by late summer 2003, and the final environmental impact statement by February 2004.

ADDRESSES: To provide comments or to obtain further information please contact: Judy Adams, Red Rock Ranger District, P.O. Box 300, Sedona, AZ 86339, or e-mail comments to jadams05@fs.fed.us. Comments or information requests can also be made by fax at 928.203.7539. Information on this project may be obtained on the Coconino National Forest Web site at http://www.fs.fed.us/r3/coconino/.

FOR FURTHER INFORMATION CONTACT: Judy Adams, Coconino National Forest (see contact information above).

SUPPLEMENTARY INFORMATION: Fossil Creek is one of Arizona's rare perennial streams, flowing from Fossil Springs southwest to the Verde River. The neighboring landscape is rich in unique resources, including native fish and wildlife, cultural resources, designated wilderness areas, abundant riparian vegetation, and crystal clear spring waters. With the anticipated decommissioning of the Childs/Irving power plants and the restoration of full flows to Fossil Creek, travertine mineral deposits are expected to recreate a unique system of pools and waterfalls, resulting in new and varied fish and wildlife habitat, more diverse vegetation and increased scenic quality. These travertine forming mineral deposits occur in only two other locations in Arizona, making this a rare and important resource.

Purpose and Need for Action

The purpose of this planning effort is to initiate management changes within the Fossil Creek area. These changes will be designed to address several issues, including the need for additional protection of Fossil Creek's uncommon resources, an increasing public demand for high quality water based recreation and the anticipated decommissioning of the Childs/Irving power plant facilities. The decommissioning of the power plants will return full, natural flows to the entire length of Fossil Creek.

Recent Forest Service inventories of conditions along Fossil Creek show high recreation pressures affecting streamside soils, plants, and archaeological resources. An important purpose of management changes is to restore and protect these sensitive and unique areas, while continuing to offer access to outdoor recreation opportunities.

The Coconino and Tonto National Forest Land and Resource Management Plans (Forest Plans) provide general goals, objectives, standards, and guidelines for various management areas, land allocations, and activities designated in the planning area. This planning effort is expected to result in an amendment to both Forest Plans, creating congruity in management direction and incorporating appropriate new direction.

Proposed Action

The action proposed by the Coconino and Tonto National Forests consists of making management changes within the Fossil Creek area. These changes would result in amendments to both Forest Plans, and would establish new standards and guidelines and new and/or modified management areas. Meeting these goals would facilitate the recovery and protection of riparian vegetation, stream channel characteristics, wildlife and fish habitat, soils, and cultural values, while still providing a variety of recreational experiences.

Possible Alternatives

The following are preliminary management alternatives that have been developed in response to preliminary significant issues derived from both the public and the agency. These preliminary alternatives will be further refined as the analysis process progresses. Additional alternatives may be developed if necessary to respond to new information.

Several management actions are similar for all alternatives, excluding the no action alternative. In all instances, the majority of Forest Road (FR) 708 would remain open to public vehicle access at the current level of maintenance. FR's 9206W and 9248C would be closed and restored (decommissioned). Camping and campfires would be permitted downstream of the existing Irving power plant facility in locations consistent with resource needs. Sanitation facilities would be installed in the Middle Fossil and/or Irving areas. Most alternatives would include creation of a creek side trail linking the Middle Fossil area with the FR 708 bridge. The Recreation Opportunity Spectrum (ROS) would attempt to preserve a semi-primitive character along Fossil Creek, with as few signs of development and management presence as possible. In the Middle Fossil Creek area, the ROS would allow for developments such as vault toilets, information signs, trails, and traffic barriers, with frequent management presence.

The following preliminary alternatives are currently under consideration:

1. Alternative A (Proposed Action)—Alternative A would attempt to strike a balance between recreational needs and resource protection. A road access system would be created in the Middle Fossil Creek area to help facilitate parking and creek access in some locations. The Flume Road and trail would be closed, and the footbridge removed. Camping and campfires would be prohibited from Fossil Springs to Irving. A portion of Management Area (MA) 11 (Verde Valley) on the Coconino NF would be identified as MA 12 (Riparian).

2. Alternative B—Under this alternative, management within the Fossil Creek area would continue under existing direction and regulation. No new actions would be taken, and no changes to existing Forest Plan direction would be made.

3. Alternative C—Alternative C would emphasize the needs and desires of camping and recreation. The Flume trail would be maintained, with the footbridge removed. Dispersed camping and campfires would be permitted in the Middle Fossil area. Designated dispersed camping would be permitted at Irving, along the Flume trail and at Fossil Springs, although no campfires would be allowed. Management area changes would be as in the Proposed Action (Alternative A).

4. Alternative D—Management direction in Alternative D would be more restrictive than other alternatives in terms of access for recreation. FR 708 would not remain open in its entirety—the portion of the road between the Deadmans Mesa Road and the parking area just north of Irving (Flume trail parking area) would be closed. This stretch (approximately 3 miles) would be converted to a non-motorized trail. A creekside trail linking the Middle Fossil area with the FR 708 bridge would not be created. The Flume Road and trail would be closed and revegetated (decommissioned). No camping or campfires would be permitted from Fossil Springs down to and including Irving. Camping and campfires would be allowed in designated areas downstreams of Irving, with parking limited to along FR 708. A special closure area would be established between Irving and the Fossil Springs dam for wildlife and riparian protection. A new Fossil Creek Conservation MA would be created, and a recommendation made to Congress for a minor expansion of the Fossil Springs Wilderness.

5. Alternative E—Management directives in this alternative would emphasize day use of the Fossil Creek area. FR 502E would be narrowed and converted to a motorized trail. The Flume Road and trail would remain in use. The footbridge would remain. Camping and campfires would not be allowed from and including Fossil Springs, downstream to and including the Irving housing area. A new Fossil Creek Conservation MA would be created, incorporating the Fossil Springs Botanical area (Coconino NF) and the proposed State Natural Area (Tonto NF).

Responsible Official

The Coconino and Tonto National Forest Supervisors will be the officials responsible for making management decisions, non-significant Forest Plan Amendments, and recommendations to Congress via the Forest Plan Amendments for special designations if needed.

Nature of Decision To Be Made

Within this analysis and planning process, programmatic decisions will be made for the Fossil Creek Planning Area. The scope of these decisions includes the development of Forest Plan desired conditions, standards and guidelines that would provide for the protection and enhancement of fish and wildlife habitat, riparian values, scenic values, and historic and cultural values. These conditions, standards, and guidelines will also determine the character, type, and location of recreation opportunities, roads, trails, and facilities. Site-specific decisions will be made concerning road and trail management.

There will be one environmental analysis documented in an EIS. These amendments are considered to be non-significant Forest Plan Amendments, affecting only a minor portion of either involved national forest.

Scoping Process

In October 2002, the Forest Service sent out a scoping letter and a description of the proposed action for the Fossil Creek planning process. This letter was followed by a public open house in Pine, Arizona in December 2002, and a question and answer session with interested groups in Phoenix, Arizona in January 2003. News releases and articles requesting comments have been published as well. In response to these efforts and the information provided, the Forest Service has thus far received approximately 57 letters and over 330 substantive comments concerning this analysis.

Preliminary Issues

The issues and concerns voiced in comment letters and other communications, along with those expressed at public meetings, have been taken into consideration in the identification of significant issues and in the development of the preliminary alternatives described above.

Primary Issue

Despite the considerable amount of agreement regarding protection of the natural and cultural values associated with Fossil Creek, there remains disagreement as to the amount, type, and location of recreation access and restrictions needed. Some believe that current levels and locations of access should be left unchanged, including all roads and trails, and that there should be no camping or campfire restrictions. Others believe that access should be substantially reduced to best meet resource protection goals, specifically suggesting a reduction in access along the riparian corridor.

Sub-Issues

• Proposed camping and campfire restrictions and trail/road closures limit the public's use of the area more than necessary to protect resources.

• Camping, trails, and vehicle access could result in impacts to soil, water, cultural resources, wildlife, vegetation, and travertine.

• Location of access and use, including roads and trails, could impact natural and cultural values and recreation opportunities.

Comments Requested

This notice of intent initiates the scoping process that guides the development of the environmental impact statement. Please provide additional comment on the proposed action or any of the possible alternatives so that any revisions or additions to these alternatives may be considered.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal, and will be available for public inspection.

(Authority: 40 CFR 1501.7 and 1508.22; Forest Service Handbook 1909.15, section 21)

Dated: June 10, 2003.
Nora B. Rasure,
Forest Supervisor, Coconino National Forest.

[FR Doc. 03-15092 Filed 6-13-03; 8:45 am]

BILLING CODE 3410-11-M